DEPARTMENT OF LABOR

Employee Benefits Security Administration

29 CFR Part 2570

RIN 1210-AC05

Posting of Hearing Transcript Regarding Proposed Amendment to Exemption Procedures Regulation and Closing of Reopened Comment Period

AGENCY: Employee Benefits Security Administration, Department of Labor.

ACTION: Announcement of hearing transcript posting and closing of the reopened comment period.

SUMMARY: As discussed in the DATES section below, the Department of Labor's Employee Benefits Security Administration (EBSA) is announcing that it has posted the transcript of the virtual public hearing regarding the proposed amendment to its exemption procedure regulation online and determined the closing date for the proposed amendment's reopened comment.

DATES: The public hearing transcript was posted to EBSA's website on October 6, 2022, and the reopened comment period for the proposed amendment will close on October 28, 2022.

FOR FURTHER INFORMATION CONTACT: Contact Brian Shiker, Office of Exemption Determinations, EBSA, by phone at (202) 693-8552 (not a toll-free number) or email shiker.brian@dol.gov.

SUPPLEMENTARY INFORMATION: On March 15, 2022, the Department published in the Federal Register a proposed amendment ¹ (the Rule) that would update its existing procedures governing the filing and processing of applications for administrative exemptions from the prohibited transaction provisions of the Employee Retirement Income Security Act, the Internal Revenue Code, and the Federal Employees' Retirement System Act. The Department received 29 comment letters on the Rule before the public comment period ended on May 29, 2022.

¹ 87 FR 14722.

On August 22, 2022, the Department announced in a Federal Register notice ² that it would hold a virtual public hearing regarding the Rule on September 15, 2022 and then reopen the Rule's public comment period from the hearing date until approximately 14 days after the Department published the hearing transcript on EBSA's website. The notice also stated that the Department will publish a Federal Register notice that announces it has posted the hearing transcript to EBSA's website and when the reopened comment period closes.

² 87 FR 51299.

The Department held the virtual public hearing on September 15, 2022, and eight organizations were represented at the hearing. The Department reopened the Rule's comment period on the hearing date.

In accordance with the August 22, 2022 Federal Register notice, the Department is hereby providing notice that it posted the hearing transcript to EBSA's website on October 6, 2022, and the Rule's reopened comment period that began on September 22, 2022 will close on October 28, 2022.³

³ The hearing transcript may be accessed at: http://www.dol.gov/agencies/ebsa.

The Department encourages all interested parties to submit comments on the Rule before the reopened comment period closes. All written comments should be identified by RIN 1210-ACO5 and sent to the Office of Exemption Determinations through the Federal eRulemaking Portal. Federal eRulemaking Portal: https://www.regulations.gov at Docket ID number: EBSA-2022-0003. Please follow the instructions for submitting comments.

All comments on Rule and requests to testify at the hearing are available to the public without charge online at https://www.regulations.gov, at Docket ID number: EBSA-2022-0003 and https://www.dol.gov/agencies/ebsa. They also are available for public inspection in EBSA's Public Disclosure Room, U.S. Department of Labor, Room N-1513, 200 Constitution Avenue NW, Washington, DC 20210.

Signed in Washington, DC, this 6th day of October 2022.
Ali Khawar,
Principal Deputy Assistant Secretary, Employee Benefits Security Administration, U.S. Department of Labor.

[FR Doc. 2022-22243 Filed 10-14-22; 8:45 am]

BILLING CODE 4510-29-P